DEPARTMENT OF HEALTH AND HUMAN SERVICES

Administration for Children and Families

Submission for OMB Review; Child Support Portal Registration (OMB No.: 0970-0370)

AGENCY: Office of Child Support Enforcement, Administration for Children and Families, HHS.

ACTION: Request for public comment.

SUMMARY: The Office of Child Support Enforcement (OCSE), Administration for Children and Families (ACF), is requesting the federal Office of Management and Budget (OMB) approve the “Child Support Portal Registration,” with revisions, for an additional three years. OCSE's Child Support Portal (“Portal”) contains applications to assist state child support agencies with administering their programs. Authorized Portal users must register with OCSE to access Portal applications and provide OCSE with certain preferences. The current OMB approval expires on February 28, 2022.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: OCSE's Division of Federal Systems maintains the Portal, which contains various applications that authorized users may view, update, and upload or download information for child support purposes. OCSE creates secure profiles for authorized users for employers, insurers, and financial institutions based on information provided in the Employer Services and Insurance Match Debt Inquiry Portal Registration forms. OCSE added the electronic National Medical Support Notice (e-NMSN), the electronic Incoming Withholding Order (e-IWO), and Multistate Financial Institution Data Match FAST Levy (MSFIDM FAST LEVY) Profile forms, which provide OCSE with information to set up the respective program user's process and capture preferences. State child support agencies manage and authenticate authorization for individual users via the state proxy server; therefore, a Portal Registration form is not required. State users must, however, provide OCSE with their respective Portal preferences.

Respondents: Employers, Financial Institutions, Insurers, and State Child Support Agencies.

Annual Burden Estimates
Information collection instrument | Total estimated number of respondents | Total number of responses per respondent | Average burden hours per response | Total burden hours
Employer Services Profile | 9,508 | 1 | 0.08 | 760.64
Insurance Match Debt Inquiry Agreement and Profile | 18 | 1 | 0.08 | 1.44
e-NMSN: Plan Administrator Profile | 5 | 1 | 0.22 | 1.10
e-NMSN: Employer |  |  |  |
Profile | 5 | 1 | 0.22 | 1.10
e-NMSN: State Profile | 5 | 1 | 0.22 | 1.10
e-IWO S2S Profile | 4 | 1 | 0.22 | 0.88
e-IWO NPO Profile | 46 | 1 | 0.22 | 10.12
MSFI-FAST Levy Profile | 5 | 1 | 0.08 | 0.40
Portal Registration Screens | 1,254 | 1 | 0.15 | 188.10

Estimated Total Annual Burden Hours: 964.88.

Authority: 42 U.S.C. 653(m)(2) and 44 U.S.C. 3554.

Mary B. Jones,
ACF/OPRE Certifying Officer.

[FR Doc. 2021-26322 Filed 12-3-21; 8:45 am]

BILLING CODE 4184-41-P